DEPARTMENT OF ENERGY

Federal Energy Regulatory Commission

[Docket No. RP00-169-001]

Natural Gas Pipeline Company of America; Notice of Compliance Filing

October 4, 2000.

Take notice that on September 29, 2000, Natural Gas Pipeline Company of America (Natural) tendered for filing to be a part of its FERC Gas Tariff, Sixth Revised Volume No. 1, Substitute First Revised Sheet No. 75, Original Sheet No. 75A and Original Sheet No. 75B, to be effective November 1, 2000.

Natural states that these tariff sheets were filed in compliance with the Commission's “Order Following Technical Conference” issued September 15, 2000 in Docket No. RP00-169-000, relating to capacity release of rights under Natural's Rate Schedule FRSS (Firm Reverse Storage Service).

Natural requests waiver of the Commission's Regulations to the extent necessary to permit the tariff sheets submitted herein to become effective November 1, 2000.

Natural states that copies of the filing have been mailed to all parties set out on the Commission's official service list in Docket No. RP00-169.

Any person desiring to protest said filing should file a protest with the Federal Energy Regulatory Commission, 888 First Street, NE., Washington, DC 20426, in accordance with Section 385.211 of the Commission's Rules and Regulations. All such protests must be filed in accordance with Section 154.210 of the Commission's Regulations. Protests will be considered by the Commission in determining the appropriate action to be taken, but will not serve to make protestants parties to the proceedings. Copies of this filing are on file with the Commission and are available for public inspection in the Public Reference Room. This filing may be viewed on the web at http://www.ferc.fed.us./online/rims.htm (call 202-208-2222 for assistance).

Linwood A. Watson, Jr.,
Acting Secretary.

[FR Doc. 00-26043 Filed 10-10-00; 8:45 am]

BILLING CODE 6717-01-M